DEPARTMENT OF VETERANS AFFAIRS

Advisory Committee on the Readjustment of Veterans; Notice of Meeting

The Department of Veterans Affairs (VA) gives notice under Public Law 92-463 (Federal Advisory Committee Act) that a meeting of the Advisory Committee on the Readjustment of Veterans will be held on April 22-23, 2010, at the Crystal Gateway Marriott, 1700 Jefferson Davis Highway, Arlington, Virginia. The sessions will begin at 8 a.m. each day and end at 4:30 p.m. on April 22 and at 4 p.m. on April 23. The meeting is open to the public.

The purpose of the Committee is to review the post-war readjustment needs of combat Veterans and to evaluate the availability and effectiveness of VA programs to meet these needs.

On April 22, the Committee will receive a review of the service needs of combat Veterans with Traumatic Brain Injury and VA's rehabilitation programs established to meet the needs of severely wounded Veterans and family members. The Committee will also be briefed on VA and Department of Defense (DoD) collaborative ventures, and DoD's Defense Centers of Excellence for Mental Health. The day's agenda will conclude with Veterans Health Administration (VHA) briefings on services to Veterans' family members and evidence-based practices for the treatment of war-related Post-Traumatic Stress Disorder.

On April 23, the Committee will receive a briefing on the current initiatives of the Readjustment Counseling Service Vet Center program to ensure timely access and the availability of quality readjustment services to assist the Veterans returning from Operation Enduring Freedom and Operation Iraqi Freedom. The Committee will receive additional briefings on services to women Veterans and VHA's Suicide Prevention program. The Committee will also finalize drafting recommendations for the Committee's next annual report.

Time will not be allocated at this meeting for receiving oral presentations from the public. However, members of the public may direct written questions or submit prepared statements for review by the Committee in advance to Mr. Charles M. Flora, M.S.W., Designated Federal Officer, Readjustment Counseling Service, Department of Veterans Affairs (15), 810 Vermont Avenue, NW., Washington, DC 20420. Those who plan to attend or have questions concerning the meeting may contact Mr. Flora at (202) 461-6525 or by e-mail at charles.flora@va.gov.

Dated: April 2, 2010.
By Direction of the Secretary.
Vivian Drake,
Acting Committee Management Officer.

[FR Doc. 2010-7925 Filed 4-7-10; 8:45 am]

BILLING CODE 8320-01-P